DEPARTMENT OF TRANSPORTATION

Federal Aviation Administration

Agency Information Collection Activities: Requests for Comments; Clearance of Renewed Approval of Information Collection: Safety Assurance System External Portal

AGENCY: Federal Aviation Administration (FAA), DOT.

ACTION: Notice and request for comments.

SUMMARY: In accordance with the Paperwork Reduction Act of 1995, FAA invites public comments about our intention to request the Office of Management and Budget (OMB) approval for a new information collection. The collection involves an internet based tool, the Safety Assurance System (SAS) External Portal. The SAS External Portal is used by the FAA's Office of Flight Standards to conduct initial certification, routine surveillance, and certificate management for applicants and certificate holders. The information to be collected will be used to better facilitate efficient certification, surveillance and certificate management activities.

DATES: Written comments should be submitted by April 24, 2018.

ADDRESSES: Send comments to the FAA at the following address: Barbara Hall, Federal Aviation Administration, ASP-110, 10101 Hillwood Parkway, Fort Worth, TX 76177.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall by email at: Barbara.L.Hall@faa.gov; phone: 940-594-5913.

SUPPLEMENTARY INFORMATION: OMB Control Number: 2120-.

Title: Safety Assurance System External Portal.

Form Numbers: (pending) Initial Certification Data Collection Tool (14 CFR 121 and 135) and Initial Certification Data Collection Tool (14 CFR 145).

Type of Review: This is a new information collection.

Background: The Safety Assurance System (SAS) External Portal is a tool used by aviation industry applicants and certificate holders to provide information to the FAA, primarily with Principal Inspectors and Certification Project Managers. The SAS External Portal allows external users to register and gain secure access to SAS functions for initial certification and configuration, and to collaborate with their FAA counterparts in the execution of these functions.

There will be extensive use of the External Portal for submittal of electronic documents from certificate holders and applicants. The SAS External Portal is now accessible to all users via the internet, regardless of geographical location of the certificate holder or applicant, thus making it easier for applicants and certificate holders to collaborate with the FAA.

Respondents: 300 respondents.

Frequency: On occasion.

Estimated Average Burden per Response: 146 hours.

Estimated Total Annual Burden: 43,800 hours.

Issued in Fort Worth, TX, on February 16, 2018.
Barbara L. Hall,
FAA Information Collection Clearance Officer, Performance, Policy, and Records Management Branch, ASP-110.

[FR Doc. 2018-03763 Filed 2-22-18; 8:45 am]

BILLING CODE 4910-13-P